DEPARTMENT OF COMMERCE

National Oceanic and Atmospheric Administration

[I.D. 010705C]

Western Pacific Fishery Management Council; Public Meeting and Hearing

AGENCY: National Marine Fisheries Service (NMFS), National Oceanic and Atmospheric Administration (NOAA), Commerce.

ACTION: Notice of public meeting/public hearing.

SUMMARY: The Western Pacific Fishery Management Council (Council) will meet by conference call in January 2005. During the meeting the Council will consider revising the regulatory amendment under the Fishery Management Plan for Pelagic Fisheries of the Western Pacific concerning measures to conserve sea turtles. The Council will also consider whether certain exemptions from the use of long-handled dehookers should be provided for particular small longliners when fishing north of the equator. More specific agenda topics are provided under the SUPPLEMENTARY INFORMATION section of this notice.

DATES: The Council meeting will be held on January 26, 2005, beginning at 1 p.m. Hawaii-Aleutian standard time and concluding when all business items have concluded. The public hearing will be held during the Council meeting to give the public opportunity to comment.

ADDRESSES: The Council will meet via conference call. The public is invited to participate at the Council office: 1164 Bishop Street, Suite 1400, Honolulu, HI 96813; telephone: (808) 522-8220; fax: 808-522-8226.

FOR FURTHER INFORMATION CONTACT: Kitty M. Simonds, Executive Director; telephone: 808-522-8220.

SUPPLEMENTARY INFORMATION:

Background

At its 123rd meeting, the Council took final action and recommended that the requirements summarized under Agenda Topics (below) be implemented by a regulatory amendment under the Fishery Management Plan for Pelagic Fisheries of the Western Pacific containing additional measures to conserve sea turtles.

Agenda Topics

1. Operators and owners of longline vessels operating under general permits (vessels registered to general longline permits and those that in the future will be registered to American Samoa limited access longline permits) must annually attend a NMFS Protected Species Workshop - with consideration of mechanisms for remote attendance.

2. Longline vessels operating under general permits must carry and use dip nets, line clippers, and bolt cutters and follow resuscitation and release guidelines for accidentally caught turtles - with an exemption for small longliners (those with a freeboard of 3 feet (0.91 meters) or less) from the requirement to carry and use long-handled line clippers.

3. Non-longline fishing vessels targeting Pacific pelagic management unit species with hooks must remove trailing gear from accidently caught turtles and follow turtle resuscitation and release guidelines, wherever they fish.

4. Longline vessels operating under general permits must use circle hooks, mackerel-type bait and dehookers, when shallow-setting north of the equator.

During the preparation of an upcoming proposed rule for the regulatory amendment, it was noted that the amendment's text would require turtle handling practices by operators of non-longline pelagic fishing vessels as described in 50 CFR 223.206(d)(1)(i), (ii) and (iii). However the most recent Biological Opinion (BiOp) issued by NMFS for the Western Pacific Pelagic Fisheries on February 24, 2004, directs that these vessel operators use the handling practices described in 50 CFR 660.32(c) and (d), in addition to those described in 50 CFR 223.206(d)(1)(iii). Although the differences are minor, the Council intends to consider revising the regulatory amendment's text to reflect the latter practices so as to be consistent with the February 2004 BiOp.

The Council's regulatory amendment would also require operators of all longline vessels to carry and use long-handled dehookers to release turtles, when fishing north of the equator. Small longliners are exempted from using long-handled line clippers based on concerns that using long-handled line clippers on these small vessels would be unwieldy and could pose a hazard to sea turtles. The Council will therefore consider whether a similar exemption from the use of long-handled dehookers should be provided for these small longliners when fishing north of the equator.

A public hearing will be held during the Council meeting to give the public opportunity to comment before the Council takes action on this agenda item.

Other Business

Although non-emergency issues not contained in this agenda may come before the Council for discussion, those issues may not be the subject of formal Council action during this meeting. Council action will be restricted to those issues specifically listed in this document and to any issue arising after publication of this document that requires emergency action under section 305(c) of the Magnuson-Stevens Fishery Conservation and Management Act, provided that the public has been notified of the Council's intent to take final action to address the emergency.

Special Accommodations

This meeting is physically accessible to people with disabilities. Requests for sign language interpretation or other auxiliary aids should be directed to Kitty M. Simonds (see FOR FURTHER INFORMATION CONTACT) at least five days prior to the meeting date.

Dated: January 10, 2005.
Alan D. Risenhoover,
Acting Director, Office of Sustainable Fisheries, National Marine Fisheries Service.

[FR Doc. E5-132 Filed 1-12-05; 8:45 am]

BILLING CODE 3510-22-S